DEPARTMENT OF TRANSPORTATION

Federal Highway Administration

Notice of Final Federal Agency Actions on the Proposed U.S. 50 Study Crossing Over Sinepauxent Bay in the Town of Ocean City, Worcester County, Maryland

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The action relates to the U.S. 50 Crossing over Sinepauxent Bay Study from MD 611 to MD 378 and 5th Street to Somerset Street located in the Town of Ocean City, Worcester County, Maryland. This action grants approval for the project.

DATES: By this notice, the FHWA is advising the public of final agency actions subject to 23 U.S.C. 139(l)(1). A claim seeking judicial review of the Federal agency actions on the highway project will be barred unless the claim is filed on or before February 20, 2013. If the Federal law that authorizes judicial review of a claim provides a time period of less than 150 days for filing such claim, then that shorter time period still applies.

FOR FURTHER INFORMATION CONTACT: Gregory Murrill, Division Administrator, Federal Highway Administration, 10 South Howard Street, Suite 2450, Baltimore, MD 21201, Telephone (410) 962-4440; or Bruce Grey, Deputy Director, Maryland State Highway Administration, 707 North Calvert Street, Mail Stop C-301, Baltimore, MD 21202, Telephone (410) 545-8500.

SUPPLEMENTARY INFORMATION: Notice is hereby given that the FHWA and other Federal agencies have taken final agency actions by issuing licenses, permits, and approvals for the following highway project in the State of Maryland for the U.S. 50 Crossing over Sinepauxent Bay Study from MD 611 to MD 378 and 5th Street to Somerset Street in Ocean City, MD. The FHWA approves the Selection of Alternative 5A—North Parallel Bridge, as described in the Final Environmental Impact Statement (FEIS) dated May 2012 and documents that the Selected Alternative best serves the purpose and need for this project, minimizes environmental impacts, and is in the best overall public interest, in accordance with 23 U.S.C. 109. This ROD is based on the information presented in the FEIS and its associated administrative record and consideration of input received from the public and other agencies. The actions by the Federal agencies, and the laws under which such actions were taken, are described in the FEIS for the project, approved on May 24, 2012, in the ROD issued on August 22, 2013, and in other documents in the FHWA administrative record. The FEIS, ROD, and other documents in the FHWA administrative record file are available by contacting the FHWA or the Maryland State Highway Administration at the addresses provided above. The FHWA FEIS and ROD can be viewed and downloaded from the project Web site at www.marylandroads.com/home.aspx or viewed at public libraries in the project area.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, [42 U.S.C. 7401-7671(q)].

3. Land: Section 4(f) of the Department of Transportation Act of 1966 [49 U.S.C. 303]; Section 6(f) of the Land and Water Conservation Fund Act of 1965 [16 U.S.C. 460]; Farmland Protection Policy Act [7 U.S.C. 4201-4209].

4. Wildlife: Endangered Species Act [16 U.S.C. 1531-1544 and Section 1536]; Magnuson-Stevens Fishery Conservation and Management Act of 1976, as amended [16 U.S.C. 1801 et seq.]; Bald and Golden Eagle Protection Act of 1940 [16 U.S.C. 668-668c].

5. Historic and Cultural Resources: Section 106 of the National Historic Preservation Act of 1966, as amended [16 U.S.C. 470(f) et seq.].

6. Social and Economic: Civil Rights Act of 1964 [42 U.S.C. 2000(d)-2000(d)(1)].

7. Executive Orders; E.O. 11990 Protection of Wetlands; E.O. 11988 Protection of Floodplains; E.O. 12898 Federal Actions to Address Environmental Justice in Minority and Low Income Populations; E.O. 13175 Consultation and Coordination with Indian Tribal Governments.

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act (MAP-21), Pub. L. No. 112-141, sec. 1308, 126 Stat. 405 (2012).

Issued on: September 9, 2013.
Gregory Murrill,
Division Administrator, Baltimore, MD.

[FR Doc. 2013-22541 Filed 9-20-13; 8:45 am]

BILLING CODE 4910-RY-P